DEPARTMENT OF STATE

[Delegation of Authority No. 345]

Delegation by the Chief Financial Officer to the Comptroller of Certain Authorities Under the CFO Act

By virtue of the authority vested in me by the Chief Financial Officer Act, 31 U.S.C. 901 et seq., and by the designation from the President, dated June 12, 2012, and to the extent authorized by law, I hereby delegate to the Comptroller the functions and authorities provided for in 31 U.S.C. 902(a)(2), (3), (5) and (6), with the access and authorities provided for in 31 U.S.C. 902(b).

Any reference in the CFO Act to “head of the agency” shall be interpreted, in the context of this delegation of authority only, as a reference to the Chief Financial Officer. Any act, executive order, regulation or procedure subject to, or affected by, this delegation shall be deemed to be such act, executive order, regulation or procedure as amended from time to time.

Notwithstanding this delegation of authority, the Chief Financial Officer may at any time exercise any authority or function delegated by this delegation of authority.

This delegation of authority shall terminate upon the appointment and entry upon duty of a subsequently-appointed Chief Financial Officer.

This document shall be published in the Federal Register.

Dated: September 28, 2012.
Patrick F. Kennedy,
Chief Financial Officer.

[FR Doc. 2012-24781 Filed 10-5-12; 8:45 am]

BILLING CODE 4710-01-P